DEPARTMENT OF HOMELAND SECURITY

Coast Guard

[Docket Number USCG-2019-0882]

Extension of Comment Period on BNSF Railway Bridge Across the Missouri River Between Bismarck and Mandan, North Dakota Draft Environmental Impact Statement

AGENCY: Coast Guard, DHS.

ACTION: Notice of extension of public comment period.

SUMMARY: On June 7, 2021, the United States Coast Guard published a notice of availability of a draft Environmental Impact Statement for the BNSF Railway Bridge across the Missouri River between the cities of Bismarck and Mandan, ND. The Coast Guard is now providing notice that the public comment period is extended through July 26, 2021. This action will align the Coast Guard's comment period with the EPA comment period for this project, which starts on June 11, 2021 and ends on July 26, 2021. When an agency files a draft Environmental Impact Statement with EPA, EPA also issues a Notice of Availability for the same document.

DATES: The comment period for the notice of availability of a draft Environmental Impact Statement published June 7, 2021 (86 FR 30323) has been extended to July 26, 2021. Substantive and relevant comments must be submitted to the online docket via https://www.regulations.gov/ on or before July 26, 2021. The Virtual Public Meeting will still be held as planned on June 30, 2021 from 6 to 9 p.m. (Central Time).

ADDRESSES: You may submit substantive and relevant comments identified by docket number USCG-2019-0882 using the Federal eRulemaking Portal at https://www.regulations.gov/. See the “Public Participation and Request for Comments” portion of the SUPPLEMENTARY INFORMATION section for further instructions on submitting comments.

FOR FURTHER INFORMATION CONTACT: Rob McCaskey, Coast Guard District Eight Project Officer, 314-269-2381.

SUPPLEMENTARY INFORMATION: On June 7, 2021, the United States Coast Guard published a notice of availability of a draft Environmental Impact Statement (EIS) for the BNSF Railway Bridge across the Missouri River between the cities of Bismarck and Mandan, ND (86 FR 30323). The Coast Guard is extending the period on the draft EIS through July 26, 2021.

This action will align the Coast Guard's comment period with the EPA comment period. Substantive and relevant comments must be submitted to the online docket via https://www.regulations.gov/ on or before July 26, 2021.

We have also supplemented our instructions for accessing and using the online docket in the Public Participation and Comments section below. This is based on recent discovered changes to www.regulations.gov.

Public Participation and Comments

We encourage you to submit substantive and relevant comments (or related material) on the draft Environmental Impact Statement. We will consider all substantive and relevant submissions and may adjust our final action based on your comments. If you submit a comment, please include the docket number for this notice, indicate the specific section of this document to which each comment applies, and provide a reason for each suggestion or recommendation.

Submitting comments. We encourage you to submit comments through the Federal Decision Making Portal at http://www.regulations.gov/. To do so, go to https://www.regulations.gov, type USCG-2019-0882 in the “SEARCH” box and click “SEARCH.” Next, look for the draft environmental impact statement in the Search Results column, and click on it. Then click on the Comment option. If your material cannot be submitted using http://www.regulations.gov/, contact the person in the FOR FURTHER INFORMATION CONTACT section of this document for alternate instructions. The draft EIS and public comments will be available in our online docket at http://www.regulations.gov/ and can be viewed by following that website's instructions.

Viewing material in docket. To view documents mentioned in this notice as being available in the docket, find the docket as described in the previous paragraph, and then select “Supporting & Related Material” in the Document Type column. Public comments will also be placed in our online docket and can be viewed by following instructions on the https://www.regulations.gov Frequently Asked Questions web page. We review all comments received, but we may choose not to post off-topic, inappropriate, or duplicate comments that we receive.

Personal information. We accept anonymous comments. All substantive and relevant comments received will be posted without change to http://www.regulations.gov/ and will include any personal information you have provided. For more information about privacy and submissions to the docket in response to this document, see DHS's eRulemaking System of Records notice (85 FR 14226, March 11, 2020).

Virtual Public Meeting. Due to the ongoing COVID-19 pandemic, the Coast Guard intends to hold a virtual public meeting to receive oral comments on this draft EIS. The meeting will be held on June 30, 2021 from 6 to 9 p.m. (Central), and can be accessed online at https://ch2m-pge.my.webex.com/ch2m-pge.my/j.php?MTID=m45e9e9fb750989eb89f8bf260630b06c. Attendees may also join by phone. The call-in number is 1-510-338-9438 (USA toll) and the access code is 182 625 0321. The meeting is expected to last approximately 3 hours.

The virtual meeting is open to the public. Those who plan to attend the meeting and wish to present substantive and relevant comments may request to do so through the online docket at http://www.regulations.gov, and will be called in order of requests received. Attendees who have not previously made a request to present comments will follow those who have already submitted a request, as time permits. If a large number of persons wish to speak, the presiding officer may be required to limit the time allotted to each speaker. It is requested that one member from a group speak on behalf of that group in order to allow more views to be presented. The public meeting may end early if all present wishing to speak have done so.

A transcript of the meeting will be made available for public review approximately 30 days after the meeting. All substantive and relevant comments will be incorporated into the official case record.

Information on Service for Individuals with Disabilities: For information on services for individuals with disabilities or to request special assistance during the public meeting contact Mr. Rob McCaskey at the telephone number under the FOR FURTHER INFORMATION CONTACT section of this notice.

This notice is issued under the authority of 5 U.S.C. 552(a) and 40 CFR 1506.6.

Dated: June 8, 2021.
Brian L. Dunn,
Chief, U.S. Coast Guard, Office of Bridge Programs.

[FR Doc. 2021-12336 Filed 6-11-21; 8:45 am]

BILLING CODE 9110-04-P